FEDERAL COMMUNICATIONS COMMISSION

47 CFR Part 73

[DA 24-410; MB Docket No. 24-111; RM-11980; FR ID 218128]

Radio Broadcasting Services; Canadian, Texas

AGENCY: Federal Communications Commission.

ACTION: Proposed rule.

SUMMARY: This document requests comments on a Petition for Rulemaking filed by Hispanic Target Media Inc., proposing to amend the Table of FM Allotments, by substituting Channel 285C1 for vacant Channel 235C1 at Canadian, Texas to accommodate the hybrid modification application for Station KPQP that proposes the substitution of Channel 235C3 for Channel 291C3 at Panhandle, Texas. A staff engineering analysis indicates that Channel 285C1 can be allotted to Canadian, Texas, consistent with the minimum distance separation requirements of the Federal Communications Commission's (Commission) rules, with a site restriction of 6.1 km (3.8 miles) north of the community. The reference coordinates are 35-57-35 NL and 100-24-24 WL.

DATES: Comments must be filed on or before June 24, 2024, and reply comments on or before July 9, 2024.

ADDRESSES: Secretary, Federal Communications Commission, 45 L Street NE, Washington, DC 20554. In addition to filing comments with the FCC, interested parties should serve the petitioner and its counsel as follows: Francisco San Milan, Hispanic Target Media Inc., 2433 E Palo Verde Street, Yuma, AZ 85364 and Gene Wisniewski, c/o Hispanic Target Media Inc., 1472 E 3100 S, Wendell, ID 83355.

FOR FURTHER INFORMATION CONTACT: Rolanda F. Smith, Media Bureau, (202) 418-2054, Rolanda-Faye.Smith@fcc.gov.

SUPPLEMENTARY INFORMATION: This is a synopsis of the Commission's Notice of Proposed Rule Making, MB Docket No. 24-111, adopted April 30, 2024, and released May 1, 2024. The full text of this Commission decision is available online at https://apps.fcc.gov/ecfs. The full text of this document can also be downloaded in Word or Portable Document Format (PDF) at https://www.fcc.gov/edocs. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). The Commission will publish the required summary of this Notice of Proposed Rulemaking on https://www.fcc.gov/proposed-rulemakings, pursuant to The Providing Accountability Through Transparency Act, see 5 U.S.C. 553(b)(4).

Provisions of the Regulatory Flexibility Act of l980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

Federal Communications Commission.
Nazifa Sawez,
Assistant Chief, Audio Division, Media Bureau.

Proposed Rules

For the reasons discussed in the preamble, the Federal Communications Commission proposes to amend 47 CFR part 73 as follows:

PART 73—RADIO BROADCAST SERVICES

1. The authority citation for part 73 continues to read as follows:

Authority: 47 U.S.C. 154, 155, 301, 303, 307, 309, 310, 334, 336, 339.

2. In § 73.202, in paragraph (b), amend the Table of FM Allotments under Texas by revising an entry for “Canadian” to read as follows:

§ 73.202 Table of Allotments.

* * * * *

(b) * * *

Table 1 to Paragraph (b)
U.S. States | Channel No.
* * * * *
Texas
* * * * *
Canadian | 285C1
* * * * *

* * * * *

[FR Doc. 2024-10359 Filed 5-10-24; 8:45 am]

BILLING CODE 6712-01-P